DEPARTMENT OF LABOR

Employment and Training Administration

[TA-W-60,293]

Waterloo Industries, Inc., A Subsidiary of Fortune Brands, Inc., Pocahontas, Arkansas; Notice of Termination of Investigation

Pursuant to Section 221 of the Trade Act of 1974, as amended, an investigation was initiated on October 25, 2006 in response to a petition filed by a State Workforce Representative on behalf of workers at Waterloo Industries, Inc., a subsidiary of Fortune Brands, Inc., Pocahontas, Arkansas.

The petitioner has requested that the petition be withdrawn. Consequently, the investigation has been terminated.

Signed at Washington, DC this 16th day of November, 2006.
Elliott S. Kushner,
Certifying Officer, Division of Trade Adjustment Assistance.

[FR Doc. E6-20062 Filed 11-27-06; 8:45 am]

BILLING CODE 4510-30-P